DEPARTMENT OF VETERANS AFFAIRS

Joint Biomedical Laboratory Research and Development and Clinical Science Research and Development Services Scientific Merit Review Board; Notice of Meetings

The Department of Veterans Affairs (VA) gives notice under Federal Advisory Committee Act that the subcommittees of the Joint Biomedical Laboratory Research and Development and Clinical Science Research and Development Services Scientific Merit Review Board (JBL/CS SMRB) will meet from 8 a.m. to 5 p.m. on the dates indicated below (unless otherwise listed):

Subcommittee | Date | Location
Oncology-C | May 16-17, 2018 | 20 F Conference Center.
Nephrology | May 17, 2018 | Hilton Garden Inn.
Hematology | May 18, 2018 | 20 F Conference Center.
Oncology-A/D | May 18, 2018 | 20 F Conference Center.
Cellular & Molecular Medicine | May 21, 2018 | 20 F Conference Center.
Endocrinology-B | May 21, 2018 | 20 F Conference Center.
Oncology-B | May 21, 2018 | 20 F Conference Center.
Neurobiology-C | May 22, 2018 | 20 F Conference Center.
Infectious Diseases-B | May 23, 2018 | Training Development Center.
Surgery | May 23, 2018 | 20 F Conference Center.
Cardiovascular Studies-A | May 24, 2018 | 20 F Conference Center.
Infectious Diseases-A | May 24, 2018 | 20 F Conference Center.
Immunology & Dermatology-A | May 30, 2018 | 20 F Conference Center.
Neurobiology-B | May 30, 2018 | 20 F Conference Center.
Oncology-E | May 30, 2018 | 20 F Conference Center.
Gulf War Research | May 31, 2018 | * VA Central Office.
Pulmonary Medicine | May 31, 2018 | 20 F Conference Center.
Neurobiology-R | May 31, 2018 | * VA Central Office.
Endocrinology-A | June 1, 2018 | 20 F Conference Center.
Neurobiology-A | June 1, 2018 | 20 F Conference Center.
Neurobiology-E | June 1, 2018 | 20 F Conference Center.
Gastroenterology | June 5, 2018 | 20 F Conference Center.
Special Emphasis Panel on Million Veteran Prog Proj | June 5, 2018 | * VA Central Office.
Mental Health & Behavioral Sciences-A | June 6, 2018 | 20 F Conference Center.
Neurobiology-F | June 6, 2018 | * VA Central Office.
Cardiovascular Studies-B | June 7, 2018 | 20 F Conference Center.
Epidemiology | June 7, 2018 | * VA Central Office.
Mental Health & Behavioral Sciences-B | June 7, 2018 | 20 F Conference Center.
Neurobiology-D | June 8, 2018 | 20 F Conference Center.
Eligibility | July 16, 2018 | 20 F Conference Center.
The addresses of the meeting sites are:
20 F Conference Center, 20 F Street NW, Washington, DC.
Hilton Garden Hill, 1225 First Street NE, Washington, DC.
Training Development Center, 400 Maryland Avenue SW, Washington, DC.
VA Central Office, 1100 First Street NE, Suite 600, Washington, DC.
* Teleconference.

The purpose of the subcommittees is to provide advice on the scientific quality, budget, safety and mission relevance of investigator-initiated research proposals submitted for VA merit review evaluation. Proposals submitted for review include various medical specialties within the general areas of biomedical, behavioral and clinical science research.

These subcommittee meetings will be closed to the public for the review, discussion, and evaluation of initial and renewal research proposals, which involve reference to staff and consultant critiques of research proposals. Discussions will deal with scientific merit of each proposal and qualifications of personnel conducting the studies, the disclosure of which would constitute a clearly unwarranted invasion of personal privacy. Additionally, premature disclosure of research information could significantly obstruct implementation of proposed agency action regarding the research proposals. As provided by subsection 10(d) of Public Law 92-463, as amended by Public Law 94-409, closing the subcommittee meetings is in accordance with Title 5 U.S.C. 552b(c) (6) and (9)(B).

Those who would like to obtain a copy of the minutes from the closed subcommittee meetings and rosters of the subcommittee members should contact Holly Krull, Ph.D., Manager, Merit Review Program (10P9B), Department of Veterans Affairs, 810 Vermont Avenue NW, Washington, DC 20420, at (202) 632-8522 or email at holly.krull@va.gov.

Dated: April 24, 2018.
LaTonya L. Small,
Federal Advisory Committee Management Officer.

[FR Doc. 2018-08983 Filed 4-27-18; 8:45 am]

BILLING CODE P